ENVIRONMENTAL PROTECTION AGENCY

[FRL-7900-9]

Mid/Atlantic Visibility Union (MANE-VU) Annual Meeting

AGENCY: Environmental Protection Agency.

ACTION: Notice of meeting.

SUMMARY: The United States Environmental Protection Agency is announcing the 2005 Annual Board Meeting of the Mid-Atlantic Northeast/Visibility Union (MANE-VU). This meeting will deal with appropriate matters relating to Regional Haze and visibility improvement in Federal Class I areas within MANE-VU.

DATES: The meeting will be held on May 5, 2005 starting at 9 a.m. (e.s.t.).

ADDRESSES: The Lucerne Inn, Route 1A, Lucerne-in-Mane, Dedham, Maine 04429; (207) 843-5123.

FOR FURTHER INFORMATION CONTACT: Marcia L. Spink, Associate Director, Air Protection Division, U.S. Environmental Protection Agency, Region III, 1650 Arch Street, Philadelphia, PA 19103; (215) 814-2100. For Documents and Press Inquiries Contact: Ozone Transport Commission (OTC), 444 North Capitol Street NW., Suite 638, Washington, DC 20001; (202) 508-3840; e-mail: ozone@otcair,org; Web site http://www.otcair,org.

SUPPLEMENTARY INFORMATION: The Mid-Atlantic/Northeast Visibility Union MANE-VU's was formed in 2001, in response to EPA's issuance of the Regional Haze rule. MANE-VU's members include Connecticut, Delaware, the District of Columbia, Maine, Maryland, Massachusetts, New Hampshire, New Jersey, New York, Pennsylvania, Rhode Island, Vermont, the Penobscot Indian National, the St. Regis Mohawk Tribe along with EPA and Federal Land Managers. This meeting will be open to the public.

Type of Meeting: Open.

Agenda: Copies of the final agenda are available from the OTC office (202) 508-3840, by e-mail: ozone@otcair.org or via the OTC Web site at http://www.otcair.org.

Dated: April 13, 2005.
Donald S. Welsh,
Regional Administrator, Region III.

[FR Doc. 05-7719 Filed 4-15-05; 8:45 am]

BILLING CODE 6560-50-M